DEPARTMENT OF THE INTERIOR

Fish and Wildlife Service

50 CFR Part 17

RIN 1018-AU53

Endangered and Threatened Wildlife and Plants; Designating the Northern Rocky Mountain Population of Gray Wolf as a Distinct Population Segment and Removing This Distinct Population Segment From the Federal List of Endangered and Threatened Wildlife

AGENCY: Fish and Wildlife Service, Interior.

ACTION: Proposed rule; extension of comment period; notice of a public hearing.

SUMMARY: Under the Endangered Species Act (Act), we, the U.S. Fish and Wildlife Service (Service), announce an extension of the comment period for the proposed rule to establish a distinct population segment (DPS) of the gray wolf (Canis lupus) in the Northern Rocky Mountains (NRM) of the United States and to remove the gray wolf in the NRM DPS from the List of Endangered and Threatened Wildlife (List) under the Act. We also announce the location and time of one additional public hearing to receive public comments on this proposal. If you previously submitted comments, please do not resubmit them because we have already incorporated them into the public record and will fully consider them in our final decision and rule.

DATES: The public comment period is extended until May 9, 2007. We may not consider any comments we receive after the closing date. We will hold a public hearing on April 19, 2007. For more information, see “Public Hearing and Comments.”

ADDRESSES: If you wish to comment, you may submit comments and materials concerning this proposal, identified by “RIN number 1018-AU53,” by any one of the following methods:

1. Federal e-Rulemaking Portal—http://www.regulations.gov. Follow the instructions for submitting comments.

2. E-mail—WesternGrayWolf@fws.gov. Include “RIN number 1018-AU53” in the subject line of the message.

3. Fax—(406) 449-5339.

4. U.S. mail, hand delivery, or courier—U.S. Fish and Wildlife Service, Western Gray Wolf Recovery Coordinator, 585 Shepard Way, Helena, MT 59601.

Comments and materials we receive, as well as supporting documentation we used in preparation of this proposed action, will be available for inspection following the close of the comment period, by appointment, during normal business hours, at our Helena office (see ADDRESSES).

FOR FURTHER INFORMATION CONTACT: Edward E. Bangs, Western Gray Wolf Recovery Coordinator, U.S. Fish and Wildlife Service, at our Helena office (see ADDRESSES) or telephone (406) 449-5225, extension 204. Persons who use a Telecommunications Device for the Deaf may call the Federal Information Relay Service at (800) 877-8339, 24 hours a day, 7 days a week.

SUPPLEMENTARY INFORMATION:

Background

On February 8, 2007, we published a proposal to establish a DPS of the wolf (Canis lupus) in the NRM of the United States and to remove the NRM DPS from the List (71 FR 6106). The comment period on this proposal opened February 8, 2007, and extends to April 9, 2007. Due to the complexity of this proposed action, we are extending the comment period for 30 days to allow the public ample opportunity to comment on this complex proposal.

Public Hearing and Comments

One additional open house, from 3 p.m. to 5 p.m. (brief presentations about the proposed rule will be given at both 3 p.m. and 4 p.m.), and one additional public hearing, from 6 p.m. to 8 p.m., will be held on:

April 19, 2007, Thursday, at the Cody Auditorium Facility, 1240 Beck Avenue, Cody, WY 82414.

Anyone wishing to make an oral statement for the record is encouraged to provide a written copy of their statement and present it to us at the hearing. In the event there is a large attendance, the time allotted for oral statements may be limited. Speakers can sign up only at the open houses and hearings. Oral and written statements receive equal consideration. There are no limits on the length of written comments submitted to us. If you have any questions concerning the public hearing, please contact Sharon Rose (303) 236-4580. If you need reasonable accommodations in order to attend and participate in the public hearing, please contact Sharon Rose at (303) 236-4580 as soon as possible in order to allow sufficient time to process requests. Please call no later than 1 week before the hearing date. Information regarding the proposal is available in alternative formats upon request.

The purpose of the public hearing is to provide additional opportunity for the public to comment on this complex proposal. Public hearings are the only method for comments and data to be presented verbally for entry into the public record of this rulemaking and for our consideration during our final decision. Comments and data also can be submitted in writing or electronically, as described in our February 8, 2007, proposal (71 FR 6106) and in the ADDRESSES section above.

We intend that any final action resulting from this proposed rule will be as accurate and as effective as possible. Therefore, we solicit comments or suggestions from the public, other concerned governmental agencies, the scientific community, industry, or any other interested party concerning this proposed rule. We solicit information, data, comments or suggestions from the public, other concerned governmental agencies, the scientific community, industry, or any other interested party concerning this proposal. Generally, we seek information, data, and comments concerning the boundaries of the proposed NRM DPS and the status of gray wolf in the NRM. Specifically, we seek documented, biological data on the status and management of the NRM wolf population and its habitat.

Submit comments as indicated under ADDRESSES. If you wish to submit comments by e-mail, please include your name and return address in your e-mail message.

Our practice is to make comments, including names and home addresses of respondents, available for public review during regular business hours. Before including your address, phone number, e-mail address, or other personal identifying information in your comment, you should be aware that your entire comment—including your personal identifying information—may be made publicly available at any time. While you can ask us in your comment to withhold your personal identifying information from public review, we cannot guarantee that we will be able to do so. We will take into consideration the comments and any additional information received during the comment period on this proposed rule during our preparation of a final rulemaking. Accordingly, our final decision may differ from this proposal.

Authority

The authority for this action is the Endangered Species Act of 1973 (16 U.S.C. 1531 et seq.).

Dated: March 23, 2007.
Kenneth Stansell,
Acting Director, U.S. Fish and Wildlife Service.

[FR Doc. E7-5744 Filed 3-28-07; 8:45 am]

BILLING CODE 4310-55-P